DEPARTMENT OF TRANSPORTATION

Federal Aviation Administration

Notice of Intent To Rule on Application 04-14-C-00-SJC To Impose and Use the Revenue From a Passenger Facility Charge (PFC) at Norman Y. Mineta San Jose International Airport, San Jose, CA

AGENCY: Federal Aviation Administration (FAA), DOT.

ACTION: Notice of intent to rule on application.

SUMMARY: The FAA proposes to rule and invites public comment on the application to impose and use the revenue from a PFC at Norman Y. Mineta San Jose International Airport under the provisions of the 49 U.S.C. 40117 and Part 158 of the Federal Aviation Regulations (14 CFR part 158).

DATES: Comments must be received on or before December 12, 2003.

ADDRESSES: Comments on this application may be mailed or delivered in triplicate to the FAA at the following address: Federal Aviation Administration, Airports Division, 15000 Aviation Blvd., Lawndale, CA 90261, or San Francisco Airports District Office, 831 Mitten Road, Room 210, Burlingame, CA 90410-1303.

In addition, one copy of any comments submitted to the FAA must be mailed or delivered to Mr. Ralph G. Tonseth, Director of Aviation, city of San Jose, at the following address: 1732 N. First Street, Suite 600, San Jose, CA 95112. Air carriers and foreign air carriers may submit copies of written comments previously provided to the city of San Jose under § 158.23 of Part 158.

FOR FURTHER INFORMATION CONTACT: Maryls Lingsch, Airports Program Analyst, San Francisco Airports District Office, 831 Mitten Road, Room 210, Burlingame, CA 94010-1303, Telephone: (650) 876-2806. The application may be reviewed in person at this same location.

SUPPLEMENTARY INFORMATION: The FAA proposes to rule and invites public comment on the application to impose and use the revenue from a PFC at Norman Y. Mineta San Jose International Airport under the provisions of the 49 U.S.C. 40117 and Part 158 of the Federal Aviation Regulations (14 CFR part 158).

On October 30, 2003, the FAA determined that the application to impose and use a PFC submitted by the city of San Jose was substantially complete within the requirements of § 158.25 of Part 158. The FAA will approve or disapprove the application, in whole or in part, no later than January 29, 2004.

The following is a brief overview of the application.

Proposed charge effective date: August 1, 2014.

Proposed charge expiration date: September 1, 2017.

Level of proposed PFC: $4.50.

Total estimated PFC revenue: $97,197,000.

Brief description of the proposed project: Taxiway Y Reconstruction.

Class or classes of air carriers which the public agency has requested not be required to collect PFCs: Nonscheduled/on-demand air carriers filling FAA Form 1800-31.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the city of San Jose.

Issued in Lawndale, California, on October 31, 2003.
Ellsworth L. Chan,
Acting Manager, Airports Division, Western-Pacific Region.

[FR Doc. 03-28265 Filed 11-10-03; 8:45 am]

BILLING CODE 4910-13-M